FEDERAL ELECTION COMMISSION

[Notice 2014-03]

Price Index Adjustments for Expenditure Limitations and Lobbyist Bundling Disclosure Threshold

AGENCY: Federal Election Commission.

ACTION: Notice of adjustments to expenditure limitations and lobbyist bundling disclosure threshold.

SUMMARY: As mandated by provisions of the Federal Election Campaign Act of 1971, as amended (“FECA” or “the Act”), the Federal Election Commission (“FEC” or “the Commission”) is adjusting certain expenditure limitations and the lobbyist bundling disclosure threshold set forth in the Act, to index the amounts for inflation. Additional details appear in the supplemental information that follows.

DATES: Effective Date: January 1, 2014.

FOR FURTHER INFORMATION CONTACT: Ms. Elizabeth S. Kurland, Information Division, 999 E Street NW., Washington, DC 20463; (202) 694-1100 or (800) 424-9530.

SUPPLEMENTARY INFORMATION: Under the Federal Election Campaign Act, 2 U.S.C. 431 et seq., coordinated party expenditure limits (2 U.S.C. 441a(d)(2) and (3)(A), (B)) and the disclosure threshold for contributions bundled by lobbyists (2 U.S.C. 434(i)(3)(A)) are adjusted periodically to reflect changes in the consumer price index. See 2 U.S.C. 434(i)(3)(B) and 441a(c)(1), 11 CFR 104.22(g), 11 CFR 109.32 and 110.17(a), (f). The Commission is publishing this notice to announce the adjusted limits and disclosure threshold.

Coordinated Party Expenditure Limits for 2014

Under 2 U.S.C. 441a(c), the Commission must adjust the expenditure limitations established by 2 U.S.C. 441a(d) (the limits on expenditures by national party committees, state party committees, or subordinate committees of state party committees in connection with the general election campaign of candidates for Federal office) annually to account for inflation. This expenditure limitation is increased by the percent difference between the price index, as certified to the Commission by the Secretary of Labor, for the 12 months preceding the beginning of the calendar year and the price index for the base period (calendar year 1974).

1. Expenditure Limitation for House of Representatives in States With More Than One Congressional District

Both the national and state party committees have an expenditure limitation for each general election held to fill a seat in the House of Representatives in states with more than one congressional district. This limitation also applies to those states and territories that elect individuals to the office of Delegate or Resident Commissioner.¹ The formula used to calculate the expenditure limitation in such states multiplies the base figure of $10,000 by the difference in the price index (4.72469), rounding to the nearest $100. See 2 U.S.C. 441a(c)(1)(B) and 441a(d)(3)(B), and 11 CFR 109.32(b) and 110.17. Based upon this formula, the expenditure limitation for 2014 general elections for House candidates in these states is $47,200.

¹ Currently, these states are the District of Columbia, the Commonwealth of Puerto Rico, and the territories of American Samoa, Guam, the United States Virgin Islands and the Northern Mariana Islands. See http://www.house.gov/house/MemberWWW_by_State.shtml and http://about.dc.gov/statehood.asp.

2. Expenditure Limitation for Senate and for House of Representatives in States With Only One Congressional District

Both the national and state party committees have an expenditure limitation for a general election held to fill a seat in the Senate or in the House of Representatives in states with only one congressional district. The formula used to calculate this expenditure limitation considers not only the price index but also the voting age population (“VAP”) of the state. The VAP of each state is published annually in the Federal Register by the Department of Commerce. 11 CFR 110.18. The general election expenditure limitation is the greater of: The base figure ($20,000) multiplied by the difference in the price index, 4.72469 (which totals $94,500); or $0.02 multiplied by the VAP of the state, multiplied by 4.72469. Amounts are rounded to the nearest $100. See 2 U.S.C. 441a(c)(1)(B) and 441a(d)(3)(A), and 11 CFR 109.32(b) and 110.17. The chart below provides the state-by-state breakdown of the 2014 general election expenditure limitation for Senate elections. The expenditure limitation for 2014 House elections in states with only one congressional district ² is $94,500.

² Currently, these states are: Alaska, Delaware, Montana, North Dakota, South Dakota, Vermont and Wyoming. See http://www.house.gov/representatives/.

Senate General Election Expenditure Limits—2014 Elections
State | Voting age population (VAP) | VAP x .02 x the price index (4.72469) | Senate expenditure limit (the greater of the amount in column 3 or $94,500)
Alabama | 3,722,241 | $351,700 | $351,700
Alaska | 547,000 | 51,700 | 94,500
Arizona | 5,009,810 | 473,400 | 473,400
Arkansas | 2,249,507 | 212,600 | 212,600
California | 29,157,644 | 2,755,200 | 2,755,200
Colorado | 4,030,435 | 380,900 | 380,900
Connecticut | 2,810,514 | 265,600 | 265,600
Delaware | 722,191 | 68,200 | 94,500
Florida | 15,526,186 | 1,467,100 | 1,467,100
Georgia | 7,502,458 | 708,900 | 708,900
Hawaii | 1,096,788 | 103,600 | 103,600
Idaho | 1,184,355 | 111,900 | 111,900
Illinois | 9,858,828 | 931,600 | 931,600
Indiana | 4,984,875 | 471,000 | 471,000
Iowa | 2,366,384 | 223,600 | 223,600
Kansas | 2,169,865 | 205,000 | 205,000
Kentucky | 3,381,291 | 319,500 | 319,500
Louisiana | 3,512,513 | 331,900 | 331,900
Maine | 1,067,026 | 100,800 | 100,800
Maryland | 4,584,292 | 433,200 | 433,200
Massachusetts | 5,298,878 | 500,700 | 500,700
Michigan | 7,650,421 | 722,900 | 722,900
Minnesota | 4,141,269 | 391,300 | 391,300
Mississippi | 2,253,775 | 213,000 | 213,000
Missouri | 4,646,486 | 439,100 | 439,100
Montana | 791,184 | 74,800 | 94,500
Nebraska | 1,404,168 | 132,700 | 132,700
Nevada | 2,128,531 | 201,100 | 201,100
New Hampshire | 1,052,337 | 99,400 | 99,400
New Jersey | 6,877,222 | 649,900 | 649,900
New Mexico | 1,577,747 | 149,100 | 149,100
New York | 15,411,151 | 1,456,300 | 1,456,300
North Carolina | 7,562,455 | 714,600 | 714,600
North Dakota | 560,705 | 53,000 | 94,500
Ohio | 8,920,978 | 843,000 | 843,000
Oklahoma | 2,903,541 | 274,400 | 274,400
Oregon | 3,072,459 | 290,300 | 290,300
Pennsylvania | 10,058,156 | 950,400 | 950,400
Rhode Island | 837,524 | 79,100 | 94,500
South Carolina | 3,695,041 | 349,200 | 349,200
South Dakota | 636,918 | 60,200 | 94,500
Tennessee | 5,004,401 | 472,900 | 472,900
Texas | 19,406,207 | 1,833,800 | 1,833,800
Utah | 2,004,283 | 189,400 | 189,400
Vermont | 503,929 | 47,600 | 94,500
Virginia | 6,395,870 | 604,400 | 604,400
Washington | 5,375,611 | 508,000 | 508,000
West Virginia | 1,472,626 | 139,200 | 139,200
Wisconsin | 4,434,937 | 419,100 | 419,100
Wyoming | 444,979 | 42,000 | 94,500

Limitations on Contributions by Individuals, Non-Multicandidate Committees and Certain Political Party Committees Giving to U.S. Senate Candidates for the 2013-2014 Election Cycle

For the convenience of the readers, the Commission is also republishing the contribution limitations for individuals, non-multicandidate committees and for certain political party committees giving to U.S. Senate candidates for the 2013-2014 election cycle:

Statutory provision | Statutory amount | 2013-2014 Limit
2 U.S.C. 441a(a)(1)(A) | $2,000 | $2,600.
2 U.S.C. 441a(a)(1)(B) | $25,000 | $32,400.
2 U.S.C. 441a(a)(3)(A) | $37,500 | $48,600.
2 U.S.C. 441a(a)(3)(B) | $57,500 (of which no more than $37,500 may be attributable to contributions to political committees that are not political committees of national political parties) | $74,600 (of which no more than $48,600 may be attributable to contributions to political committees that are not political committees of national political parties).
2 U.S.C. 441a(h) | $35,000 | $45,400.

Lobbyist Bundling Disclosure Threshold for 2014

The Act requires certain political committees to disclose contributions bundled by lobbyists/registrants and lobbyist/registrant political action committees once the contributions exceed a specified threshold amount. The Commission must adjust this threshold amount annually to account for inflation. The disclosure threshold is increased by multiplying the $15,000 statutory disclosure threshold by 1.15555, the difference between the price index, as certified to the Commission by the Secretary of Labor, for the 12 months preceding the beginning of the calendar year and the price index for the base period (calendar year 2006). The resulting amount is rounded to the nearest multiple of $100. See 2 U.S.C. 434(i)(3)(A) and (B), 441a(c)(1)(B) and 11 CFR 104.22(g). Based upon this formula ($15,000 × 1.15555), the lobbyist bundling disclosure threshold for calendar year 2014 is $17,300.

On behalf of the Commission.
Dated: January 30, 2014.
Lee E. Goodman,
Chairman, Federal Election Commission.

[FR Doc. 2014-02453 Filed 2-5-14; 8:45 am]

BILLING CODE 6715-01-P